DEPARTMENT OF COMMERCE

National Oceanic and Atmospheric Administration

[RTID 0648-XE388]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee and Advisory Panel (AP) will hold a joint meeting. See SUPPLEMENTARY INFORMATION for agenda details.

DATES: The meeting will be held on Monday, November 4, 2024, from 1 p.m. through 4 p.m. and Tuesday, November 5, 2024, from 9 a.m. through 12 p.m.

ADDRESSES: The meeting will take place over webinar with a telephone-only connection option. Details on how to connect to the meeting will be available at: https://www.mafmc.org.

Council address: Mid-Atlantic Fishery Management Council, 800 N State Street, Suite 201, Dover, DE 19901; telephone: (302) 674-2331; website: https://www.mafmc.org.

FOR FURTHER INFORMATION CONTACT: Christopher M. Moore, Ph.D., Executive Director, Mid-Atlantic Fishery Management Council, telephone: (302) 526-5255.

SUPPLEMENTARY INFORMATION: During this meeting, the EOP Committee and AP will review a completed draft of the Council's Ecosystem Approach to Fisheries Management (EAFM) risk assessment report. In 2023, the Council conducted a comprehensive review of the risk assessment and recommended a number of changes and updates to be included in a revised EAFM risk assessment. The draft report has been updated to reflect the approved changes to the risk assessment, incorporates the latest data and scientific information, and recent feedback from the EOP Committee and AP on an earlier draft. The EOP Committee and AP will provide any additional feedback before the 2024 EAFM risk assessment report is finalized and presented to the Council in December.

A detailed agenda and background documents will be made available on the Council's website (https://www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: October 15, 2024.
Alyssa Weigers,
Acting Deputy Director, Office of Sustainable Fisheries, National Marine Fisheries Service.

[FR Doc. 2024-24152 Filed 10-17-24; 8:45 am]

BILLING CODE 3510-22-P